COMMISSION ON CIVIL RIGHTS

Agenda and Notice of Public Meeting of the Alaska Advisory Committee

Notice is hereby given, pursuant to the provisions of the rules and regulations of the U.S. Commission on Civil Rights (Commission) and the Federal Advisory Committee Act (FACA) that a planning meeting of the Alaska Advisory Committee (Committee) to the Commission will be held on Tuesday, May 17, 2011 at the Loussac Library, 3600 Denali Street, Anchorage, Alaska, 99503. The meeting is scheduled to begin at 2:30 p.m. and adjourn at approximately 5 p.m. The purpose of the meeting is to plan a future civil rights project.

Members of the public are entitled to submit written comments. The comments must be received in the Western Regional Office of the Commission by June 17, 2011. The address is Western Regional Office, U.S. Commission on Civil Rights, 300 N. Los Angeles Street, Suite 2010, Los Angeles, CA 90012. Persons wishing to e-mail their comments, or to present their comments verbally at the meeting, or who desire additional information should contact Angelica Trevino, Office Manager, Western Regional Office, at (213) 894-3437, (or for hearing impaired TDD 913-551-1414), or by e-mail to atrevino@usccr.gov. Hearing-impaired persons who will attend the meeting and require the services of a sign language interpreter should contact the Regional Office at least ten (10) working days before the scheduled date of the meeting.

Records generated from this meeting may be inspected and reproduced at the Western Regional Office, as they become available, both before and after the meeting. Persons interested in the work of this advisory committee are advised to go to the Commission's Web site, http://www.usccr.gov, or to contact the Western Regional Office at the above e-mail or street address. The meeting will be conducted pursuant to the provisions of the rules and regulations of the Commission and FACA.

Dated in Washington, DC, April 19, 2011.
Peter Minarik,
Acting Chief, Regional Programs Coordination Unit.

[FR Doc. 2011-10000 Filed 4-25-11; 8:45 am]

BILLING CODE 6335-01-P